SECURITIES AND EXCHANGE COMMISSION

[Release No. 34-95416; File No. SR-PEARL-2022-23]

Self-Regulatory Organizations; MIAX PEARL, LLC; Notice of Withdrawal of Proposed Rule Change To Amend the MIAX PEARL Options Fee Schedule To Remove Certain Credits and Increase Trading Permit Fees

August 3, 2022. On May 17, 2022, MIAX PEARL, LLC (“MIAX Pearl”) filed with the Securities and Exchange Commission (“Commission”), pursuant to Section 19(b)(1) of the Securities Exchange Act of 1934 ¹ and Rule 19b-4 thereunder,² a proposed rule change to remove certain credits and increase trading permit fees. The proposed rule change was published for comment in the Federal Register on June 2, 2022.³

¹ 15 U.S.C. 78s(b)(1).

² 17 CFR 240.19b-4.

³ See Securities Exchange Act Release No. 94993 (May 26, 2022), 87 FR 33518.

On July 12, 2022, MIAX Pearl withdrew the proposed rule change (SR-PEARL-2022-23).

For the Commission, by the Division of Trading and Markets, pursuant to delegated authority.⁴
⁴ 17 CFR 200.30-3(a)(12).
J. Matthew DeLesDernier,
Deputy Secretary.

[FR Doc. 2022-17007 Filed 8-8-22; 8:45 am]

BILLING CODE 8011-01-P